DEPARTMENT OF DEFENSE

Office of the Secretary

Meeting of the Advisory Panel To Assess the Capabilities for Domestic Response to Terrorist Attacks Involving Weapons of Mass Destruction

ACTION: Notice of meeting.

SUMMARY: This notice sets forth the schedule and summary agenda for the next meeting of the Panel to Assess the Capabilities for Domestic Response to Terrorist Attacks Involving Weapons of Mass Destruction. Notice of this meeting is required under the Federal Advisory Committee Act.

DATES: November 7 and 8, 2002.

ADDRESSES: RAND, 1200 S. Hayes Street, 4th floor, Arlington, VA 22202-5050.

PROPOSED SCHEDULE AND AGENDA: Panel to Assess the Capabilities for Domestic Response to Terrorist Attacks Involving Weapons of Mass Destruction will meet from 8:30 a.m. until 5:30 p.m. on November 7, 2002 and from 8:30 a.m. until 2 p.m. on November 8, 2002. Time will be allocated for public comments by individuals or organizations at the end of the meeting on November 8.

FOR FURTHER INFORMATION CONTACT: RAND provides information about this Panel on its web site at http://www.rand.org/organization/nsrd/terrpanel; it can also be reached at (703) 413-1100 extension 5321. Public comment presentations will be limited to two minutes each and must be provided in writing prior to the meeting. Mail written presentations and requests to register to attend the open public session to: Nancy Rizor, RAND, 1200 South Hayes Street, Arlington, VA 22202-5050. Public seating for this meeting is limited, and is available on a first-come, first-served basis.

Dated: October 31, 2002.
L.M. Bynum,
OSD Federal Register Liaison Officer, Department of Defense.

[FR Doc. 02-28283 Filed 11-6-02; 8:45 am]

BILLING CODE 5001-08-M